FEDERAL COMMUNICATIONS COMMISSION

47 CFR Part 73

[MB Docket No. 14-69; RM-11716; DA 14-601]

Radio Broadcasting Services; McCall, Idaho

AGENCY: Federal Communications Commission.

ACTION: Proposed rule.

SUMMARY: This document requests comments on a Petition for Rule Making filed by Ashley A. Bruton, proposing the allotment of Channel 280A at McCall, Idaho, as the community's eighth local service. A staff engineering analysis confirms that Channel 280A can be allotted to McCall, Idaho consistent with the minimum distance separation requirements of the rules with a site restriction 0.4 kilometers (0.2 miles) southwest of the community. The reference coordinates are 44-54-30 NL and 116-06-00 WL.

DATES: Comments must be filed on or before June 23, 2014, and reply comments on or before July 8, 2014.

ADDRESSES: Secretary, Federal Communications Commission, 445 12th Street SW., Washington, DC 20554. In addition to filing comments with the FCC, interested parties should serve the petitioner as follows: Ashley A. Bruton, 25 Campbell Road, Walla Walla, Washington 99362.

FOR FURTHER INFORMATION CONTACT: Rolanda F. Smith, Media Bureau, (202) 418-2700.

SUPPLEMENTARY INFORMATION: This is a synopsis of the Commission's Notice of Proposed Rule Making, MB Docket No. 14-69, adopted May 1, 2014, and released May 2, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

We are removing Channel 228C3, McCall, Idaho from the FM Table of Allotments because the community of license and channel were changed for Station KHNO from Channel 228C3, McCall, Idaho, to Channel 228C1, Huntington, Oregon. See File No. BMPH-20121002ACH. We are also removing Channel 238C3, McCall, Idaho from the FM Table of Allotments because the channel is no longer considered a vacant allotment. Station KUJJ is licensed on Channel 238C3 at McCall. See File No. BLH-20131227ADB. Moreover, we are removing Channel 276C3, McCall, Idaho from the FM Table of Allotments because the community of license was changed for Station KVBL, Channel 276C3, from McCall, Idaho, to Union, Idaho. See File Nos. BNPH-20110624ADA and BLH-20120627ABD. Additionally, we are removing Channel 293C3, McCall, Idaho from the FM Table of Allotments because the community of license and channel were changed from Channel 293C3, McCall, Idaho, to Channel 294C1, Huntington, Oregon. See File No. BNPH-20091019AAS.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended].

2. Section 73.202(b), the Table of FM Allotments under Idaho, is amended by removing at McCall; Channels 228C3, 238C3, 276C3, and 293C3, and by adding Channel 280A at McCall.

[FR Doc. 2014-11254 Filed 5-14-14; 8:45 am]

BILLING CODE 6712-01-P